DEPARTMENT OF TRANSPORTATION

Federal Aviation Administration

14 CFR Part 39

[Docket No. FAA-2015-0496; Directorate Identifier 2014-NM-101-AD; Amendment 39-18533; AD 2016-11-06]

RIN 2120-AA64

Airworthiness Directives; The Boeing Company Airplanes

AGENCY: Federal Aviation Administration (FAA), DOT.

ACTION: Final rule.

SUMMARY: We are superseding Airworthiness Directive (AD) 2005-18-18 for certain The Boeing Company Model 757 airplanes. AD 2005-18-18 required inspections of certain wire bundles in the left and right engine-to-wing aft fairings for discrepancies; installation of back-to-back p-clamps between the wire and hydraulic supply tube at the aft end of the right-hand strut only; and associated re-routing of the wire bundles, if necessary. This new AD also requires an installation of spiral cable wrap on fuel shutoff valve (FSV) wires at the aft end of the strut, for both left and right engines, and related investigative and corrective actions. This AD was prompted by a determination that the service information referenced in AD 2005-18-18 did not adequately address FSV wires at the aft end of the struts. We are issuing this AD to prevent chafing between the wire bundle and the structure of the aft fairing, which could result in electrical arcing and subsequent ignition of flammable vapors and a possible uncontrollable fire.

DATES: This AD is effective July 6, 2016.

The Director of the Federal Register approved the incorporation by reference of certain publications listed in this AD as of July 6, 2016.

The Director of the Federal Register approved the incorporation by reference of certain other publications listed in this AD as of October 14, 2005 (70 FR 53554, September 9, 2005).

ADDRESSES: For service information identified in this final rule, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA 98057. For information on the availability of this material at the FAA, call 425-227-1221. It is also available on the Internet at http://www.regulations.gov by searching for and locating Docket No. FAA-2015-0496.

Examining the AD Docket

You may examine the AD docket on the Internet at http://www.regulations.gov by searching for and locating Docket No. FAA-2015-0496; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: William Bond, Aerospace Engineer, Propulsion Branch, ANM-140L, FAA, Los Angeles Aircraft Certification Office (ACO), 3960 Paramount Boulevard, Lakewood, CA 90712-4137; phone: 562-627-5253; fax: 562-627-5210; email: william.bond@faa.gov.

SUPPLEMENTARY INFORMATION:

Discussion

We issued a notice of proposed rulemaking (NPRM) to amend 14 CFR part 39 to supersede AD 2005-18-18, Amendment 39-14258 (70 FR 53554, September 9, 2005) (“AD 2005-18-18”). AD 2005-18-18 applied to certain The Boeing Company Model 757-200, -200PF, -200CB, and -300 series airplanes. The NPRM published in the Federal Register on March 27, 2015 (80 FR 16318) (“the NPRM”). The NPRM was prompted by a report that the service information referenced in AD 2005-18-18 did not adequately address FSV wires at the aft end of the strut, for both left and right engine struts. The NPRM proposed to continue to require inspections of certain wire bundles in the left and right engine-to-wing aft fairings for discrepancies; installation of back-to-back p-clamps between the wire and hydraulic supply tube at the aft end of the right-hand strut only; and associated re-routing of the wire bundles, if necessary. The NPRM also proposed to require installation of tetrafluoroethylene spiral cable wrap on the FSV wires at the aft end of the strut that would provide additional wiring protection. We are issuing this AD to prevent chafing between the wire bundle and the structure of the aft fairing, which could result in electrical arcing and subsequent ignition of flammable vapors and a possible uncontrollable fire.

Comments

We gave the public the opportunity to participate in developing this AD. The following presents the comments received on the NPRM and the FAA's response to each comment.

Request To Clarify Certain Requirements

Boeing requested clarification of the actions required by paragraph (g) of the proposed AD. Boeing suggested that paragraph (g) of the proposed AD be revised to add a statement to clarify that no further work would be required if the requirements of AD 2005-18-18 have already been accomplished.

We agree to provide clarification. In paragraph (g) of this AD, we restated the requirements of paragraph (f) of AD 2005-18-18. Paragraph (f) of this AD states, “Comply with this AD within the compliance times specified, unless already done.” If operators have already done the actions required by paragraph (f) of AD 2005-18-18, they have already done the actions required by paragraph (g) of this AD. If operators have not already done the actions required by paragraph (g) of this AD before the effective date of the AD, then they must use the most recent revision of the service information. We have not changed this AD in this regard.

Request To Clarify Certain Compliance Time Requirements

Boeing requested clarification of the compliance times stated in paragraph (h) of the proposed AD. Boeing stated that there is confusion between “Within 60 months after the effective date of this AD . . . ,” as stated in the first sentence of the paragraph for the spiral cable wrap installation, and “. . . before further flight,” as stated in the second sentence for the related investigative and corrective actions. Boeing suggested that the second sentence be deleted from paragraph (h) of the proposed AD.

We do not agree to revise paragraph (h) of this AD. The installation of the spiral cable wrap includes related investigative and corrective actions, i.e., doing inspections for damaged wire bundles, repairing damaged wires, and testing certain fuel shutoff wires. These related investigative and corrective actions must be done before further flight after damage is found. We have not changed the AD in this regard.

Request To Provide Credit for Required Service Information

FedEx requested that the proposed AD be revised to add a paragraph granting credit for accomplishing Boeing Service Bulletin 757-28A0073 or 757-28A0074, both Revision 2, both dated June 4, 2009, before the effective date of the AD. FedEx stated that they had already accomplished the requirements on airplanes in their fleet.

We agree to clarify. The intent of paragraph (f) of this AD is to provide relief for accomplishing the requirements of this AD before the effective date of this AD. Therefore, this AD already includes the credit requested by the commenter. We have not changed this AD in this regard.

Request To Allow Credit for Previous AMOC Approvals

United Airlines (UAL) requested that a paragraph be added to the proposed AD to allow credit for all previously approved AMOC letters that affect Boeing Service Bulletin 757-28A0073 or 757-28A0074.

We do not agree to add a new paragraph to this AD. Credit is already provided in paragraph (i)(4) of this AD, which specifies that AMOCs approved for AD 2005-18-18 are also acceptable as AMOCs for the corresponding provisions of paragraph (g) of this AD. (Paragraph (g) of this AD restates the requirements of paragraph (f) of AD 2005-18-18.) Paragraph (h) of this AD is a new requirement and AMOCs cannot be approved for that paragraph until this AD is published. We have not changed this AD in this regard.

Request To Provide Relief for Model 757-300 Airplanes Similar to Relief Provided to Model 757-200 Airplanes

UAL requested relief for Model 757-300 airplanes that is similar to that provided to the Model 757-200 airplanes in FAA AMOC letter 757-28A0073-AMOC-01.

We agree. The issue that the AMOC letter addresses (for Boeing Service Bulletin 757-28A0073, Revision 2, dated June 4, 2009) also exists in Boeing Service Bulletin 757-28A0074, Revision 2, dated June 4, 2009. We have revised paragraphs (g) and (h) of this AD to include a statement that where Boeing Service Bulletin 757-28A0074, Revision 2, dated June 4, 2009, states “SWPM 20-10-11, Table IX,” this AD instead requires “SWPM 20-10-11, `Minimum Clearance' Table.”

Request To Incorporate Proposed AD Requirements Into the Maintenance Planning Data (MPD) Document

UAL requested that the proposed AD be revised to require incorporation of a required repetitive inspection of the modification into the MPD requirements for Model 757 Heavy Check intervals, preferably at intervals of 3,000 flight cycles or 20 months. UAL suggested that this addition to the MPD could ensure the long-term integrity of the modification.

We do not agree to require a revision to the MPD. We infer that the term “modification” used by UAL is intended to refer to the corrective actions required by paragraph (g) of this AD, and the cable wrap installation and related investigative and corrective actions required by paragraph (h) of this AD. These actions required by paragraphs (g) and (h) of this AD are considered to provide long-term integrity of the “modification” and maintain an acceptable level of safety. However, we encourage operators to proactively revise their maintenance programs in accordance with FAA regulations to address problems or issues as they arise. We have not changed this AD in this regard.

Effect of Winglets on Accomplishment of the Proposed Actions

Aviation Partners Boeing (APB) stated that the installation of winglets per Supplemental Type Certificate (STC) ST01518SE (http://rgl.faa.gov/Regulatory_and_Guidance_Library/rgstc.nsf/0/312bc296830a925c86257c85006d1b1f/$FILE/ST01518SE.pdf) does not affect accomplishment of the manufacturer's service instructions.

We agree with the commenter that STC ST01518SE (http://rgl.faa.gov/Regulatory_and_Guidance_Library/rgstc.nsf/0/312bc296830a925c86257c85006d1b1f/$FILE/ST01518SE.pdf) does not affect the accomplishment of the manufacturer's service instructions. Therefore, the installation of STC ST01518SE does not affect the ability to accomplish the actions required by this AD. We have not changed this AD in this regard.

Change Made to the Format of Paragraph (g) of This AD

We have revised the format of paragraph (g) of this AD by converting Table 1 to paragraph (g)(1) to text in paragraph (g). This change to the format does not affect the requirements of paragraphs (g), (g)(1), or (g)(2) of this AD.

Conclusion

We reviewed the relevant data, considered the comments received, and determined that air safety and the public interest require adopting this AD with the changes described previously and minor editorial changes. We have determined that these minor changes:

• Are consistent with the intent that was proposed in the NPRM for correcting the unsafe condition; and

• Do not add any additional burden upon the public than was already proposed in the NPRM.

We also determined that these changes will not increase the economic burden on any operator or increase the scope of this AD.

Related Service Information Under 1 CFR Part 51

We reviewed Boeing Alert Service Bulletins 757-28A0073 and 757-28A0074, both Revision 2, both dated June 4, 2009. The service information describes procedures for inspecting certain wire bundles in the left and right engine-to-wing aft fairings for discrepancies; installing back-to-back p-clamps between the wire and hydraulic supply tube at the aft end of the right-hand strut only; associated re-routing of the wire bundles, if necessary; and installing spiral cable wrap on FSV wires on the aft ends of the left and right engine struts, and related investigative and corrective actions. This service information is reasonably available because the interested parties have access to it through their normal course of business or by the means identified in the ADDRESSES section.

Costs of Compliance

We estimate that this AD affects 346 airplanes of U.S. registry.

We estimate the following costs to comply with this AD:

Estimated Costs
Action | Labor cost | Parts cost | Cost per product | Cost on U.S. operators
Inspection of certain wire bundles, and p-clamp installation [retained actions from AD 2005-18-18] | Between 16 and 44 work-hours × $85 per hour = Between $1,360 and $3,740 | $600 | Between $1,960 and $4,340 | Between $678,160 and $1,501,640
Installation of spiral cable wrap [new action] | 10 work-hours × $85 per hour = $850 | $10 | $860 | $297,560

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2005-18-18, Amendment 39-14258 (70 FR 53554, September 9, 2005), and adding the following new AD:

2016-11-06 The Boeing Company: Amendment 39-18533; Docket No. FAA-2015-0496; Directorate Identifier 2014-NM-101-AD.

(a) Effective Date

This AD is effective July 6, 2016.

(b) Affected ADs

This AD replaces AD 2005-18-18, Amendment 39-14258 (70 FR 53554, September 9, 2005) (“AD 2005-18-18”).

(c) Applicability

This AD applies to The Boeing Company Model 757-200, -200PF, -200CB, and -300 series airplanes; certificated in any category; equipped with Rolls-Royce engines; as identified in Boeing Alert Service Bulletins 757-28A0073 and 757-28A0074, both Revision 2, both dated June 4, 2009.

(d) Subject

Air Transport Association (ATA) of America Code 28, Fuel.

(e) Unsafe Condition

This AD was prompted by a report that the service information referenced in AD 2005-18-18, did not adequately address fuel shutoff valve (FSV) wires at the aft end of the strut, for both left and right engine struts. We are issuing this AD to prevent chafing between the wire bundle and the structure of the aft fairing, which could result in electrical arcing and subsequent ignition of flammable vapors and a possible uncontrollable fire.

(f) Compliance

Comply with this AD within the compliance times specified, unless already done.

(g) Retained One-Time Inspections/Related Investigative and Corrective Actions, With New Service Information and an Exception to Certain Service Information

This paragraph restates the requirements of paragraph (f) of AD 2005-18-18, with new service information and an exception to certain service information. Within 60 months after October 14, 2005 (the effective date of AD 2005-18-18), do the actions required by paragraphs (g)(1) and (g)(2) of this AD. Where Boeing Alert Service Bulletin 757-28A0074, Revision 2, dated June 4, 2009, states “SWPM 20-10-11, Table IX,” the correct phrase is “SWPM 20-10-11, `Minimum Clearance' Table.”

(1) Accomplish the detailed inspections for discrepancies of the wire bundles in the left and right engine-to-wing aft fairings, and applicable and related investigative and corrective actions if necessary, as applicable, by doing all the actions specified in the Accomplishment Instructions of the applicable service bulletins listed in paragraphs (g)(1)(i) and (g)(1)(ii) of this AD. As of the effective date of this AD, use only Boeing Alert Service Bulletin 757-28A0073 or 757-28A0074, both Revision 2, both dated June 4, 2009, as applicable. Accomplish any related investigative and corrective actions before further flight, in accordance with the applicable service bulletin. For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

(i) For Boeing Model 757-200, -200CB, and -200PF series airplanes, use the service information identified in paragraphs (g)(1)(i)(A), (g)(1)(i)(B), and (g)(1)(i)(C) of this AD.

(A) Boeing Alert Service Bulletin 757-28A0073, dated November 20, 2003;

(B) Boeing Alert Service Bulletin 757-28A0073, Revision 1, dated February 24, 2005.

(C) Boeing Alert Service Bulletin 757-28A0073, Revision 2, dated June 4, 2009.

(ii) For Boeing Model 757-300 series airplanes, use the service information identified in paragraphs (g)(1)(ii)(A), (g)(1)(ii)(B), and (g)(1)(ii)(C) of this AD.

(A) Boeing Alert Service Bulletin 757-28A0074, dated November 20, 2003.

(B) Boeing Alert Service Bulletin 757-28A0074, Revision 1, dated February 24, 2005.

(C) Boeing Alert Service Bulletin 757-28A0074, Revision 2, dated June 4, 2009.

(2) Install back-to-back p-clamps between the wire and hydraulic supply tube at the aft end of the right-hand strut only; and re-route the wire bundles, if necessary; by doing all the applicable actions specified in the Accomplishment Instructions of the applicable service information identified in paragraphs (g)(2)(i) through (g)(2)(iv) of this AD. As of the effective date of this AD, use only the service information identified in paragraphs (g)(2)(ii) and (g)(2)(iv) of this AD, as applicable.

(i) Boeing Alert Service Bulletin 757-28A0073, Revision 1, dated February 24, 2005.

(ii) Boeing Alert Service Bulletin 757-28A0073, Revision 2, dated June 4, 2009.

(iii) Boeing Alert Service Bulletin 757-28A0074, Revision 1, dated February 24, 2005.

(iv) Boeing Alert Service Bulletin 757-28A0074, Revision 2, dated June 4, 2009.

(h) New Spiral Cable Wrap Installation

Within 60 months after the effective date of this AD, install spiral cable wrap on FSV wires at the aft end of the strut, for both left and right engines, and do all applicable related investigative and corrective actions, in accordance with the Accomplishment Instructions of Boeing Alert Service Bulletin 757-28A0073 (for Model 757-200, -200CB, and -200PF series airplanes) or 757-28A0074 (for Model 757-300 series airplanes), both Revision 2, both dated June 4, 2009. Where Boeing Alert Service Bulletin 757-28A0074, Revision 2, dated June 4, 2009, states “SWPM 20-10-11, Table IX,” the correct phrase is “SWPM 20-10-11, `Minimum Clearance' Table.” Do all applicable related investigative and corrective actions before further flight.

(i) Alternative Methods of Compliance (AMOCs)

(1) The Manager, Los Angeles Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (j) of this AD. Information may be emailed to: 9-ANM-LAACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by the Boeing Commercial Airplanes Organization Designation Authorization (ODA) that has been authorized by the Manager, Los Angeles ACO, to make those findings. To be approved, the repair method, modification deviation, or alteration deviation must meet the certification basis of the airplane, and the approval must specifically refer to this AD.

(4) AMOCs approved for AD 2005-18-18 are approved as AMOCs for the corresponding provisions of paragraph (g) of this AD.

(j) Related Information

For more information about this AD, contact William Bond, Aerospace Engineer, Propulsion Branch, ANM-140L, FAA, Los Angeles ACO, 3960 Paramount Boulevard, Lakewood, CA 90712-4137; phone: 562-627-5253; fax: 562-627-5210; email: william.bond@faa.gov.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on July 6, 2016.

(i) Boeing Alert Service Bulletin 757-28A0073, Revision 2, dated June 4, 2009.

(ii) Boeing Alert Service Bulletin 757-28A0074, Revision 2, dated June 4, 2009.

(4) The following service information was approved for IBR on October 14, 2005 (70 FR 53554, September 9, 2005).

(i) Boeing Alert Service Bulletin 757-28A0073, dated November 20, 2003.

(ii) Boeing Alert Service Bulletin 757-28A0073, Revision 1, dated February 24, 2005.

(iii) Boeing Alert Service Bulletin 757-28A0074, dated November 20, 2003.

(iv) Boeing Alert Service Bulletin 757-28A0074, Revision 1, dated February 24, 2005.

(5) For service information identified in this AD, contact Boeing Commercial Airplanes, Attention: Data & Services Management, P.O. Box 3707, MC 2H-65, Seattle, WA 98124-2207; telephone 206-544-5000, extension 1; fax 206-766-5680; Internet https://www.myboeingfleet.com.

(6) You may view this service information at the FAA, Transport Airplane Directorate, 1601 Lind Avenue SW., Renton WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on May 17, 2016.
Dionne Palermo,
Acting Manager, Transport Airplane Directorate, Aircraft Certification Service.

[FR Doc. 2016-12331 Filed 5-31-16; 8:45 am]

BILLING CODE 4910-13-P